DEPARTMENT OF AGRICULTURE

Grain Inspection, Packers and Stockyards Administration

Correction of the December 3, 2007, Federal Register Notice Announcing Opportunities for Designation in Georgia, Cedar Rapids (IA), and the Montana Areas, and Request for Comments on the Official Agencies Serving These Areas

AGENCY: Grain Inspection, Packers and Stockyards Administration, USDA.

ACTION: Notice correction.

SUMMARY: On December 3, 2007, GIPSA published a notice in the Federal Register announcing that the designations of the following official agencies will end on June 30, 2008: Georgia Department of Agriculture (Georgia); Mid-Iowa Grain Inspection, Inc. (Mid-Iowa); and Montana Department of Agriculture (Montana). We asked persons interested in providing official services in the areas served by these agencies to submit an application for designation. The date that the applications and comments were due was incorrectly listed as January 2, 2009, instead of January 2, 2008. This notice provides interested persons a period of time to submit an application for designation or to comment on the official agencies named above.

EFFECTIVE DATE: Applications and comments must be received by February 25, 2008.

ADDRESSES: Karen Guagliardo, Review Branch Chief, Compliance Division, GIPSA, USDA, STOP 3604, Room 1647-S, 1400 Independence Avenue, SW., Washington, DC 20250-3604. Fax: (202) 690-2755, E-mail: Karen.W.Guagliardo@usda.gov.

FOR FURTHER INFORMATION CONTACT: Karen Guagliardo at 202-720-7312, e-mail Karen.W.Guagliardo@usda.gov.

SUPPLEMENTARY INFORMATION: GIPSA is publishing this notice to correct an error concerning the date to submit applications for designation or to comment on the current official agencies serving the Georgia, Cedar Rapids (IA), and Montana areas.

Correction

In the Federal Register issue of Monday, December 3, 2007, beginning on page 67885 (72 FR 67885) in make the following correction:

1. On page 67885, in the second column, delete the date January 2, 2009, and insert the date February 25, 2008. This action corrects the date, and allows an additional period for late applications and comments.

Authority: 7 U.S.C. 71-87k.

David R. Shipman,
Acting Administrator, Grain Inspection, Packers and Stockyards Administration.

[FR Doc. E8-2949 Filed 2-14-08; 8:45 am]

BILLING CODE 3410-KD-P